DEPARTMENT OF HEALTH AND HUMAN SERVICES

Centers for Disease Control and Prevention

Advisory Committee on Childhood Lead Poisoning Prevention

In accordance with section 10(a)(2) of the Federal Advisory Committee Act (Pub. L. 92-463), the National Center for Environmental Health (NCEH) of the Centers for Disease Control and Prevention (CDC) announces the following committee meeting.

Name: Advisory Committee on Childhood Lead Poisoning Prevention.

Times and Dates:

8:30 a.m.-5 p.m., October 14, 2003

8:30 a.m.-12:30 p.m., October 15, 2003.

Place: Embassy Suites—Atlanta at Centennial Olympic Park, 267 Marietta Street, Atlanta, Georgia 30313. Telephone 404/223 2300.

Status: Open to the public, limited only by the space available. The meeting room accommodates approximately 75 people.

Purpose: The Committee shall provide advice and guidance to the Secretary; the Assistant Secretary for Health; and the Director, CDC, regarding new scientific knowledge and technological developments and their practical implications for childhood lead poisoning prevention efforts. The Committee shall also review and report regularly on childhood lead poisoning prevention practices and recommend improvements in national childhood lead poisoning prevention efforts.

Matters to be Discussed: Agenda items include: Update on Primary Prevention issues, Review of Evidence for Effects at Blood Lead Levels <10 μg/dL, Building Blocks Project, the National Academy of Sciences Study, Lead Exposure at Superfund Sites, and the Update on International Lead issues.

Agenda items are subject to change as priorities dictate.

Opportunities will be provided during the meeting for oral comments. Depending on the time available and the number of requests, it may be necessary to limit the time of each presenter.

For Further Information Contact: Crystal M. Gresham, Program Analyst, Lead Poisoning Prevention Branch, Division of Emergency and Environmental Health Services, NCEH, CDC, 4770 Buford Hwy, NE, M/S F-30, Atlanta, Georgia 30341, telephone 770/488-7490, fax 770/488-3635.

Due to programmatic issues that had to be resolved, the Federal Register notice is being published less than fifteen days before the date of meeting.

The Director, Management Analysis and Services office, has been delegated the authority to sign Federal Register notices pertaining to announcements of meetings and other committee management activities for both CDC and the Agency for Toxic Substances and Disease Registry.

Dated: September 25, 2003.
Alvin Hall,
Director, Management Analysis and Services Office, Centers for Disease Control and Prevention.

[FR Doc. 03-24840 Filed 9-30-03; 8:45 am]

BILLING CODE 4163-18-P